ENVIRONMENTAL PROTECTION AGENCY

[ER-FRL-6654-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 2, 2004 (69 FR 17403).

Draft EISs

ERP No. D-BIA-C60004-NY Rating EC2, St. Regis Mohawk Tribe, Mohawk Mountain Casino and Resort, Proposed Transfer of 66 Acres of Land into Federal Trust Status, Fee-to-Trust Acquisition, Sullivan County, NY.

Summary: EPA expressed environmental concerns due to direct and cumulative impacts to groundwater and surface water.

ERP No. D-BLM-J67031-ND Rating EC2, West Mine Area, Freedom Mine Project, Application to Acquire Federal Coal Lease, Mercer County, ND.

Summary: EPA expressed environmental concerns about air quality impacts and adequate protection for fens and peatland wetlands.

ERP No. D-COE-C40162-NJ Rating EO2, NJ 92 Project, New Jersey Turnpike Authority, Transportation Improvement from East-West Highway Link Connecting U.S. Route1 in South Brunswick Township with the New Jersey Turnpike at Interchange 8A in Monroe Township, Middlesex County, NJ.

Summary: EPA objected to the proposed permit based on the potential for significant environmental impacts and that all reasonable alternatives, including those with fewer environmental impacts, have not been fully evaluated.

ERP No. D-COE-E39065-FL Rating LO, Central and Southern Florida Project, Comprehensive Everglades Restoration Plan, Aquifer Storage and Recovery (ASR) Pilot Operation, Aquifer Storage and Recovery Pilot Project, To Test the Feasibility Utilizing ASR Technology for Water Storage at Seven Well Sites, Right-of-Way and NPDES Permits, Several Counties.

Summary: While EPA had no objections to the proposed project, EPA requested clarification on to identifying applicable standards for groundwater injection and surface water discharges.

ERP No. D-DOI-J39031-UT Rating EC2, Utah Lake Drainage Basin Water Delivery System (ULS), Construction and Operation, Bonneville Unit of the Central Utah Project (CUP), Utah, Salt Lake, Wasatch and Juab Counties, UT.

Summary: EPA expressed environmental concerns relating to water quality impacts, as well as project purpose and information on affected environment, and implementation of water conservation.

ERP No. D-HUD-C85045-NY Rating EC2, Ridge Hill Village Project, Construction, Comprehensive Development Plan, (CDP), Planned Mixed-Use Development District (PMD), U.S. Army COE Section 404, City of Yonkers, Westchester County, NY.

Summary: EPA expressed concerns due to air quality impacts given Westchester County's current non-attainment status. EPA requested that the Final EIS include additional information such as a meso-scale analysis to address the air quality issues.

ERP No. D-NOA-E39066-FL Rating LO, Programmatic EIS—Seagrass Restoration in the Florida Keys National Marine Sanctuary, Implementation, U.S. Army COE Section 404 and CZMA Permits, Monroe County, FL.

Summary: While EPA has no objection to the proposed action, EPA did request clarification on the preferred alternative in relation to specific regions within the Sanctuary, and defining thresholds for developing future site-specific NEPA documents tiering from this document.

ERP No. D-NOA-L91023-00 Rating EC2, Pacific Coast Groundfish Fishery Management Plan, Amendment 16-3 Adopts Rebuild Plans for Bocaccio, Cowcod, Widow Rockfish and Yelloweye Rockfish, Maximum Sustainable Yield (MSY), Implementation, WA, OR, ID and CA.

Summary: EPA expressed concerns due to impacts on habitat, cowcod stock status, and uncertainty of bycatch information, and impacts on habitat.

ERP No. D-NOA-L91024-00 Rating EC2, Puget Sound Chinook Harvest Resource Management Plan (RMP) 2004-2009, Implementation, Endangered Species Act, OR and WA.

Summary: EPA expressed concerns that the proposed action will not meet many of the escapement and rebuilding goals established in the management plan. EPA also expressed concerns with Puget Sound chinook salmon fishing mortalities in Canadian waters, hatchery augmentation and the applicability of the management plant to the 2004 fishing season.

ERP No. D-SFW-B64004-ME Rating LO, Petit Manan National Wildlife Refuge Complex, Comprehensive Conservation Plan, Implementation, the Gulf of Maine.

Summary: EPA had no objection to the proposed project.

Final EISs

ERP No. F-AFS-J65405-ND Equity Oil Company Federal 32-4 and 23-21 Oil and Gas Wells Surface Use Plan of Operation (SUP0), Implementation, Located in the Bell Lake Inventoried Roadless Area (IRA), Dakota Prairie Grasslands, Medora Ranger District, Goldon Valley County, ND.

Summary: No formal comment letter was sent to the preparing agency.

ERP No. F-BLM-J01080-WY West Hay Creek Coal Lease Application, Federal Coal Leasing, Buckskin Mine, Powder River Basin, Campbell County, WY.

Summary: EPA continues to express environmental concerns about regional air quality and impacts to and mitigation for playa wetlands. EPA supports mitigation methods for controlling fugitive dust and suggests those in use be reviewed to determine if additional measures are needed. EPA supports the efforts to control nitrogen dioxide releases from blasting and encourages measures to eliminate these toxic emissions.

ERP No. F-COE-G61042-NM Closure of the Al Black Recreation Area at the Cochiti Lake Dam Outlet Works, Implementation, Sandoval County, NM.

Summary: No formal comment letter was sent to the preparing agency.

ERP No. F-DOE-F09004-OH Portsmouth, Ohio Site Depleted Uranium Hexafluoride Conversion Facility, Construction and Operation, Pike County, OH.

Summary: Since EPA's previous concerns have been resolved, EPA has no objection to the proposed action.

ERP No. F-FRC-B05193-CT Housatonic River Hydroelectric Project, Application to Relicense Existing Licenses for Housatonic Project No. 2576-022 and the Falls Village Project No. 2597-019, Housatonic River Basin, Fairfield, New Haven and Litchfield Counties, CT.

Summary: EPA expressed concerns about the range of alternatives considered and the consistency of the preferred alternative with conditions of the Clean Water Act Section 401 water quality certification.

ERP No. F-FRC-L05230-OR Pelton Round Butte Hydroelectric Project, (FERC No. 2030-036), Application for a New License for Existing 366.82-megawatt Project, Deschutes River, OR.

Summary: No formal comment letter was sent to the preparing agency.

ERP No. F-UAF-K11113-00 Air Force Mission at Johnston Atoll Airfield (Installation) Termination, Implementation, Johnston Atoll is an Unincorporated Territory of the United States.

Summary: The FEIS addressed many of EPA's previous concerns. EPA requested commitments in the NEPA Record of Decision on waste minimization, pollution prevention and responsibility for environmental contaminants, and to identify the geographic boundaries of areas where the Defense Department will have jurisdiction and management responsibilities.

ERP No. F-USA-K11111-HI Transformation of the 2nd Brigade, 25th Infantry Division (Light) to a Stryker Brigade Combat Team in Hawai'i, Implementation, Honolulu and Hawai'i Counties, HI.

Summary: No formal comment letter was sent to the preparing agency.

Dated: July 26, 2004.
Ken Mittelholtz,
Environmental Protection Specialist, Office of Federal Activities.

[FR Doc. 04-17382 Filed 7-29-04; 8:45 am]

BILLING CODE 6560-50-U